DEPARTMENT OF THE INTERIOR

Bureau of Land Management

[CO-700-00-5440-00-C023]

Notice of Availability of Records of Decisions

AGENCY: Bureau of Land Management, Interior.

ACTION: Notice of svailability of North Fork Coal Records of Decisions (ROD's) for the Iron Point Coal Exploration License application (COC61945), Iron Point Coal Lease Tract application (COC61209) and the Elk Creek Coal Lease Tract application (COC61357) of Federal coal reserves in Delta and Gunnison Counties, Colorado.

RESPONSIBLE OFFICIAL: Mike Pool, Associate State Director, Colorado State Office, Bureau of Land Management, 2850 Youngfield, Denver, CO 80215.

SUMMARY: The BLM has issued Records of Decisions (RODs) to offer for competitive sale Federal coal reserves in the Iron Point Coal Lease Tract (COC61209) and the Elk Creek Coal Lease Tract (COC61357). BLM has also issued a ROD to grant the Iron Point Coal Exploration License (COC61945) to Bowie Resources Limited.

DATES: The decisions are subject to appeal for 30 days under the provisions of 43 CFR part 4.

ADDRESSES: Please address questions on the ROD's to the Bureau of Land Management, Attn: Jerry Jones, 2465 South Townsend Ave., Montrose, CO, 81401.

FOR FURTHER INFORMATION CONTACT: Jerry Jones at the above address, or phone number 970-240-5338, or fax number 970-240-5368. E-mail can be sent to Jerry_Jones@co.blm.gov.

SUPPLEMENTARY INFORMATION: As a result of two applications for coal leasing and one application for a coal exploration license, the North Fork Coal Environmental Impact Statement (EIS) was prepared. The BLM and the U.S.D.A. Forest Service were joint lead agencies in the preparation of the document. The U.S.D.I. Office of Surface Mining was a cooperating agency. The Final EIS was made available to the public with the publication of the EPA Notice of Availability on February 25, 2000.

The BLM has decided to offer for competitive sale the Federal coal reserves in two coal lease tracts, the Iron Point Coal Lease Tract (COC61209) and the Elk Creek Coal Lease Tract (COC61357). The decisions generally implement Alternative D, No Subsidence in Sensitive Areas, in the North Fork Coal Final EIS. The described actions plus additional mitigation measures would prevent subsidence under perennial streams and the Curecanti-Rifle 230/345 kv power line and protect important other resources.

The BLM has also decided to grant the Iron Point Coal Exploration License (COC61945) to Bowie Resources Limited. The decision generally implements Alternative B, Proposed Action, in the North Fork Coal Final EIS. The described actions plus additional mitigation measures would protect important other resources.

The decisions are in accordance with the Mineral Leasing Act of 1920 as amended, the Federal Coal Leasing Amendments Act of 1975 and 43 CFR 3400. The decisions are subject to appeal for 30 days under the provisions of 43 CFR part 4.

Dated: March 30, 2000.
Jerry Jones,
EIS Project Manager, Bureau of Land Management.

[FR Doc. 00-8307 Filed 4-4-00; 8:45 am]

BILLING CODE 4310-JB-P